SMALL BUSINESS ADMINISTRATION

[Disaster Declaration #11139]

Oklahoma Disaster #OK-00016

AGENCY: U.S. Small Business Administration.

ACTION: Notice.

SUMMARY: This is a Notice of the Presidential declaration of a major disaster for Public Assistance Only for the State of OKLAHOMA (FEMA-1735-DR), dated 12/18/2007.

Incident: Severe Winter Storms.

Incident Period: 12/08/2007 and continuing.

Effective Date: 12/18/2007.

Physical Loan Application Deadline Date: 02/18/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 12/18/2007, Private Non-Profit organizations that provide essential services of a governmental nature may file disaster loan applications at the address listed above or other locally announced locations.

The following areas have been determined to be adversely affected by the disaster:

Primary Counties:

Cleveland, Lincoln, Mayes, Oklahoma, Pottawatomie, Tulsa, Wagoner.

The Interest Rates are:

| Percent
Other (Including Non-Profit Organizations) With Credit Available Elsewhere: | 5.250
Businesses and Non-Profit Organizations Without Credit Available Elsewhere: | 4.000

The number assigned to this disaster for physical damage is 11139.

(Catalog of Federal Domestic Assistance Number 59008)

Herbert L. Mitchell,
Associate Administrator for Disaster Assistance.

[FR Doc. E7-25252 Filed 12-27-07; 8:45 am]

BILLING CODE 8025-01-P